DEPARTMENT OF ENERGY

Amended Record of Decision for the Hanford Comprehensive Land-Use Plan Environmental Impact Statement

AGENCY: Department of Energy.

ACTION: Amended record of decision.

SUMMARY: The Department of Energy (DOE) is amending its Record of Decision (ROD) for the Hanford Comprehensive Land-Use Plan Environmental Impact Statement (HCP-EIS) (DOE/EIS-0222; September 1999), which evaluated the potential environmental impacts associated with implementing a comprehensive land-use plan (CLUP) for the Hanford Site near Richland, Washington. The CLUP consists of four key elements: (i) A land-use map that addresses the Hanford Site as five geographic areas and shows the planned future uses for each area, (ii) a set of nine land-use designations that define the permissible activities for each use, (iii) land-use planning policies, and (iv) implementing procedures that apply to the review and approval of future land uses. These elements were developed to ensure consistency in land-use decisionmaking and application of DOE institutional controls to the Site. The ROD (64 FR 61615; November 12, 1999) adopted the CLUP for at least the next 50 years.

In amending the 1999 ROD, DOE seeks to clarify two points: that when considering land-use proposals, DOE will use regulatory processes in addition to the implementing procedures in Chapter 6 of the HCP-EIS to ensure consistency with CLUP land-use designations, and that DOE will continue to apply the process under HCP-EIS Chapter 6 to modify or amend the CLUP, as needed.

The CLUP will remain in effect as long as DOE retains legal control of some portion of the Hanford Site, which is expected to be longer than 50 years. As a “living document,” the CLUP is intended to be flexible enough to accommodate changes, both anticipated and unforeseen, in missions and conditions. The HCP-EIS recommends reassessment of the CLUP every 5 years through a Supplement Analysis process under the DOE National Environmental Policy Act (NEPA) Implementing Procedures (10 CFR 1021.314).

ADDRESSES: The documents referenced herein are available from: Center for Environmental Management Information, P.O. Box 23769, Washington, DC 20026-3769, Telephone: 800-736-3282 (in Washington, DC: 202-863-5084).

The 1999 HCP-EIS and ROD are available, and the Supplement Analysis and this amended ROD will be available, at http://www.gc.energy.gov/NEPA/ under “DOE NEPA Documents.”

FOR FURTHER INFORMATION CONTACT: For further information on the Supplement Analysis for the HCP-EIS, contact: Mr. Woody Russell, NEPA Compliance Officer, U.S. Department of Energy, Office of River Protection, MS H6-60 P.O. Box 450, Richland, WA 99352, Telephone: 509-373-5227.

For information on DOE's NEPA process, contact: Ms. Carol Borgstrom, Director, Office of NEPA Policy and Compliance (GC-20), U.S. Department of Energy, 1000 Independence Avenue, SW., Washington, DC 20585-0103, Telephone: 202-586-4600, or leave a message at 800-472-2756.

SUPPLEMENTARY INFORMATION:

I. Background

DOE published a Notice of Intent (NOI) (57 FR 37959; August 21, 1992) to prepare the Hanford Remedial Action EIS and identified as an EIS objective the establishment of future land uses at the Hanford Site near Richland, Washington. After public scoping, DOE issued an Implementation Plan (DOE/RL-93-66, June 1995) to document the recommendations of the Federal, state, and local agencies, Native American Tribes, and interested individuals and organizations, many of whom had been working with DOE to identify future use options for the Site.

In response to new directives (DOE Order 430.1A, Life-Cycle Asset Management, and National Defense Authorization Act for FY97, 42 U.S.C. 7274k, redesignated 50 U.S.C. 2582), DOE revised the scope of the EIS to prepare a comprehensive land-use plan for the Site. Seven cooperating agencies (Federal and local agencies) and two consulting Tribal governments developed alternatives analyzed in the EIS and helped develop the CLUP. In September 1996, DOE issued the Draft Hanford Remedial Action EIS and Comprehensive Land-Use Plan (61 FR 47739) and received extensive comments. To address this input, DOE issued a second, revised draft (64 FR 19983; April 23, 1999).

DOE considered comments received on the revised draft, and in September 1999 issued a final EIS, Hanford Comprehensive Land-Use Plan Environmental Impact Statement (HCP-EIS), with a new title that reflected the change in scope from remedial action to land-use planning. The ROD (64 FR 61615; November 12, 1999) adopted DOE's Preferred Alternative as the CLUP, with the HCP-EIS Chapter 6 process as the governing processes to ensure consistent implementation of the CLUP.

II. Other Regulatory Processes at Hanford

Since 1999, the Hanford Site's primary mission has been environmental cleanup, using the Tri-Party Agreement (TPA) negotiated among the U.S. Environmental Protection Agency (EPA), Washington State Department of Ecology (Ecology), and DOE as the framework for implementing the requirements of the Comprehensive Environmental Response, Compensation, and Liability Act (CERCLA), the Resource Conservation and Recovery Act (RCRA), and the State of Washington Hazardous Waste Management Act (HWMA). Other important requirements are integrated into this cleanup decisionmaking process, including NEPA values and the substantive provisions of the National Historic Preservation Act (NHPA).

The TPA includes requirements for soliciting input from other agencies, Tribal governments, and the public before the Tri-Party agencies make cleanup decisions. Cleanup decisionmaking is based on proposed uses of land and facilities, risk assessments of exposure scenarios that include reasonably anticipated future land uses, and consideration of other legally applicable or relevant and appropriate requirements established under Federal, state, or local agency laws, regulations, and policies.

III. Supplement Analysis

A. The Supplement Analysis Evaluation

To determine whether the existing HCP-EIS remains adequate or whether a new or supplemental EIS is needed, DOE prepared a Supplement Analysis under the DOE NEPA regulations (10 CFR 1021.314). DOE identified documents developed from September 1999 through September 2007 that potentially involve land use at the Hanford Site. Documents considered in this evaluation to support the Supplement Analysis include existing NEPA, CERCLA/TPA, RCRA/HWMA, and NHPA documents; DOE Orders, policies, and guidelines; DOE real estate licenses, permits, easements, deed notices; laws, regulations, Executive Orders; and cultural/historical documents. DOE solicited input from Tribal Nations and interested stakeholders to identify additional relevant documents to be evaluated.

After identifying candidate decision documents with land-use involvement, current actions, and reasonably foreseeable actions, DOE evaluated these for consistency with the CLUP. In a few cases, the analyses were still under development and a draft document was not yet available to determine whether the CLUP would be affected. In other cases, analysis in a draft document provides sufficient information to determine whether land use is involved, even though the document and associated decision had not been finalized; DOE included these as reasonably foreseeable actions in the Supplement Analysis. DOE's next Supplement Analysis is expected to reflect any such final documents and decisions as needed and appropriate, consistent with the HCP-EIS Chapter 6 process and DOE's NEPA regulations.

Though not required under the DOE NEPA regulations, DOE issued the draft Supplement Analysis on March 24, 2008, for a 30-day public review period. The principal comments received, from area Tribes and stakeholders, were that DOE should live up to commitments in resource management plans it issues and should implement CLUP land-use values in the cleanup process. DOE addressed the comments in the final Supplement Analysis and considered all comments in issuing this Amended ROD.

B. Results of the Supplement Analysis

In reviewing the implementation of area and resource management plans for maintaining appropriate environmental controls and mitigation, DOE identified changes from the plans as established by the CLUP (HCP-EIS, Table 6-4). For example, DOE found that in a few cases the scope of a management plan is being covered by other management plans. Two resource management plans originally identified in the HCP-EIS have not been prepared, and two others—one for Gable Mountain/Gable Butte (finalized and issued) and the other for Rattlesnake Mountain (still under development)—are tiered from the Hanford Cultural Resources Management Plan. A draft Cultural and Biological Resources Management Plan was developed for areas of the Hanford Site now being managed by DOE's Pacific Northwest Site Office and issued for public comment, but has not been finalized. These deviations from the CLUP are minor and have not affected the CLUP (including the land-use map, designations, and policies). The management plans in place today or still under development continue to support DOE's efforts to streamline environmental planning at Hanford and integrate it with the CLUP. DOE found that these plans, which have been or will be provided to stakeholders, are largely being applied consistently at the Hanford Site.

DOE found that other regulatory processes followed at the Hanford Site, such as RCRA and CERCLA, have been used effectively to determine whether proposed activities at the Hanford Site are consistent with the CLUP. Under the TPA framework for cleanup of the Hanford Site, the requirements of the CERCLA and the RCRA/HWMA processes are implemented, including opportunities for stakeholder participation in decisionmaking. Values under the NEPA and State Environmental Policy Act (SEPA) processes, cultural considerations under the NHPA, and land-use considerations such as consistency with the CLUP also are integrated into cleanup decisionmaking under the TPA framework.

C. Basis of Supplement Analysis Determination

In reaching a determination on the need for a new or supplemental EIS for the CLUP, DOE has considered the documents and other information developed since 1999 concerning land use at the Hanford Site as evaluated in the Supplement Analysis, regulatory processes that have been used to consider land use and consistency with the CLUP, and comments received on the draft Supplement Analysis. DOE finds that modification of resource management plans are minor and consistent with the CLUP. Based on the Supplement Analysis, DOE has not identified significant new circumstances or changes relevant to environmental concerns that affect the CLUP.

DOE finds that other regulatory processes followed at the Hanford Site under the TPA framework, such as RCRA and CERCLA, have been used effectively to determine whether proposed activities at the Hanford Site are consistent with the CLUP and provide equivalent opportunities for agencies, Tribes, and the public to participate in decisionmaking. Values under the NEPA and SEPA processes, cultural considerations under the NHPA, and land-use considerations such as consistency with the CLUP are considered also in cleanup decisions under the TPA framework. This Amended ROD clarifies DOE's finding that the use of these other regulatory processes is consistent with processes established in the HCP-EIS to ensure that land-use decisions are consistent with the CLUP.

However, DOE does not believe it is appropriate to use these other regulatory processes to amend the CLUP (including making changes to land-use map, designations, and policies). Proposals to amend any aspect of the CLUP will continue to follow the process outlined in Chapter 6 of the HCP-EIS. The review process for land-use requests that would change or modify the CLUP (Figure 5-1 of the Supplement Analysis) requires review by the DOE Real Estate Officer (REO) and the DOE NEPA Compliance Officer. As stated in Section 6.4 of the final HCP-EIS:

The REO receives notice (e.g., NEPA checklist, SEPA checklist, CERCLA RI/FS [Remedial Investigation/Feasibility Study] review request, CERCLA review request, RCRA permit request, etc.) from a proposed project or activity and initiates, with the NEPA Compliance Officer (NCO), a coordinated project review. * * * As an initial step in the review process, the REO determines whether the project is an “Allowable Use,” “Special Use,” or “Amendment” to the CLUP. For projects that require Special Use Permits or Plan Amendments, the REO obtains comments and recommendations from the SPAB [Site Planning Advisory Board] on the suitability of the proposed “Use” with respect to the existing CLUP map, land-use policies, and implementing procedures. For CLUP Amendments, review includes a final RL [Richland Operations Office] Site Management Board (SMB) affirmation, or the SMB can refer a proposed Plan Amendment back to the REO for further review.

As discussed in the Supplement Analysis (Section 5.5), this review process may result in additional NEPA review.

IV. Supplement Analysis Determination and Amended Decision

Based on the Supplement Analysis, DOE finds no significant new circumstances or information relevant to environmental concerns and bearing on the proposed actions or their impacts as described in the HCP-EIS. Therefore, DOE has determined that neither a new EIS nor a supplement to the existing HCP-EIS is needed at this time.

Based on the Supplement Analysis, DOE concludes that using the regulatory processes in place at the Hanford Site under the framework of the Tri-Party Agreement is an acceptable way to ensure land use is being implemented consistently with the CLUP. DOE will continue to follow the provisions of section 6.4 of the HCP-EIS for proposed amendments to the CLUP. Resource and area management plans will continue to be developed and implemented with the goal of protecting Hanford's resources, maintaining consistency with CLUP policies and goals, and honoring commitments made in these management plans.

Issued in Washington, DC, on September 19, 2008.
James A. Rispoli,
Assistant Secretary for Environmental Management.

[FR Doc. E8-22676 Filed 9-25-08; 8:45 am]

BILLING CODE 6450-01-P